NATIONAL AERONAUTICS AND SPACE ADMINISTRATION

[Notice 00-039]

NASA Advisory Council, Life and Microgravity Sciences and Applications Advisory Committee, Life Sciences Advisory Subcommittee; Meeting

AGENCY: National Aeronautics and Space Administration.

ACTION: Notice of meeting.

SUMMARY: In accordance with the Federal Advisory Committee Act, Public Law 92-463, as amended, the National Aeronautics and Space Administration announces a meeting of the NASA Advisory Council, Life and Microgravity Sciences and Applications Advisory Committee, Life Sciences Advisory Subcommittee.

DATES: Wednesday, May 17, 2000, 8:00 a.m. to 5:30 p.m.

ADDRESSES: Center for Advanced Space Studies (CASS), 3600 Bay Area Blvd., 1045-Hess Room, Houston, TX, 77058.

FOR FURTHER INFORMATION CONTACT: David Tomko, Code UL, National Aeronautics and Space Administration, Washington, DC 20546, 202/358-2211.

SUPPLEMENTARY INFORMATION: The meeting will be open to the public up to the seating capacity of the room. The agenda for the meeting is as follows:

—Action Status

—Life Sciences Division Update

—Biology Research Project Status Report

—Biology Pillars—Organization, Management, and Budget Briefing

—FY 2000 Budget Status and FY 2001 Budget Plan

—IRB and IACUC Process in NASA Status

—Review of LSAS Archiving Task Force

—HRF Status Report

—FY 2000 Performance Metrics

—Review of Committee Findings and Recommendations

It is imperative that the meeting be held on this date to accommodate the scheduling priorities of the key participants. Visitors will be requested to sign a visitor's register.

Dated: April 24, 2000.
Matthew M. Crouch,
Advisory Committee Management Officer, National Aeronautics and Space Administration.

[FR Doc. 00-10496 Filed 4-26-00; 8:45 am]

BILLING CODE 7510-01-P